DEPARTMENT OF HEALTH AND HUMAN SERVICES

Office of the Secretary

Agency Information Collection Activities; Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Gerrie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: 1. HHS Small Business Vendor Outreach Program Registration—New—The Office of Small and Disadvantaged Business Utilization (OSDBU) proposes to establish an on-line registration form. The form will be used by OSDBU vendors to register for outreach sessions and training conferences. The on-line registration form will simplify the registration process for attendees. The system will accept the registration and automatically confirm and verify the date, time and location of each session. When the training and outreach sessions are full the system is designed to notify attendees of the next available date to attend or place them on a waiting list.

Respondents: Individuals, business or other for-profit.

Number of Respondents: 2,030.

Average Burden per Response: 5 minutes.

Total Burden: 170 hours.

Send comments via e-mail to Geerie.Jones@HHS.gov or mail to OS Reports Clearance Office, Room 503H, Hubert H. Humphrey Building, 200 Independence Avenue, SW., Washington, DC, 20201. Comments should be received within 60 days of this notice.

Dated: October 10, 2002.
Kerry Weems,
Deputy Assistant Secretary, Budget.

[FR Doc. 02-26579 Filed 10-17-02; 8:45 am]

BILLING CODE 4510-23-M